NATIONAL FOUNDATION ON THE ARTS AND THE HUMANITIES

Institute of Museum and Library Services; Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

DATES: Time and Date: Tuesday, October 20, 2009 from 12:30 p.m. to 3:30 p.m.

Agenda: Eighteenth National Museum and Library Services Board Meeting:

I. Welcome

II. Greetings

III. Approval of Minutes

IV. Financial Update

V. Legislative Update

VI. Break

VII. Board Program: Leveraging Today's (and Tomorrow's) Technologies for Federal Government, Museum, and Library Services

VIII. Board Updates

IX. Adjourn

(Open to the Public)

ADDRESSES: Place: The meeting will take place in section A of the Serrano Ballroom at the Marlowe Hotel. The Marlowe Hotel is located at 25 Edwin H. Land Blvd., Cambridge, Massachusetts. Telephone: (617) 868-8000.

FOR FURTHER INFORMATION CONTACT: Elizabeth Lyons, Special Events and Board Liaison, Institute of Museum and Library Services, 1800 M Street, NW., 9th Floor, Washington, DC 20036. Telephone: (202) 653-4676.

SUPPLEMENTARY INFORMATION: The National Museum and Library Services Board is established under the Museum and Library Services Act, 20 U.S.C. Section 9101 et seq. The Board advises the Director of the Institute on general policies with respect to the duties, powers, and authorities related to Institute of Museum and Library Services. If you need special accommodations due to a disability, please contact: Institute of Museum and Library Services, 1800 M Street, NW., 9th Fl., Washington, DC 20036. Telephone: (202) 653-4676; TDD (202) 653-4614 at least seven (7) days prior to the meeting date.

Dated: September 30, 2009.
Kate Fernstrom,
Chief of Staff.

[FR Doc. E9-24030 Filed 10-6-09; 8:45 am]

BILLING CODE 7036-01-M